DEPARTMENT OF AGRICULTURE

Animal and Plant Health Inspection Service

9 CFR Parts 102, 103, 104, 108, 112, 113, 114, 116, and 124

[Docket No. APHIS-2009-0069]

Viruses, Serums, Toxins, and Analogous Products and Patent Term Restoration; Nonsubstantive Amendments

AGENCY: Animal and Plant Health Inspection Service, USDA.

ACTION: Direct final rule; confirmation of effective date.

SUMMARY: On April 21, 2010, the Animal and Plant Health Inspection Service published a direct final rule. (See 75 FR 20771-20773.) The direct final rule notified the public of our intention to amend the Virus-Serum-Toxin Act regulations concerning veterinary biological products to update the addresses provided for units within the Center for Veterinary Biologics and to make several nonsubstantive technical changes to the regulations to update information concerning the number of copies of Outlines of Production and labeling to submit, and to provide information concerning using the Internet to obtain forms and apply for veterinary biologics permits. We did not receive any written adverse comments or written notice of intent to submit adverse comments in response to the direct final rule.

DATES: Effective Date: The effective date of the direct final rule is confirmed as June 21, 2010.

FOR FURTHER INFORMATION CONTACT: Dr. Albert P. Morgan, Chief of Operational Support Section, Center for Veterinary Biologics, Policy, Evaluation, and Licensing, VS, APHIS, 4700 River Road Unit 148, Riverdale, MD 20737-1231; (301) 734-8245.

Authority: 21 U.S.C. 151-159; 7 CFR 2.22, 2.80, and 371.4.

Done in Washington, DC, this 8th day of July 2010.

Kevin Shea
Acting Administrator, Animal and Plant Health Inspection Service.

[FR Doc. 2010-17076 Filed 7-13-10: 1:33 pm]

BILLING CODE 3410-34-S